DEPARTMENT OF COMMERCE

International Trade Administration

Antidumping and Countervailing Duties, Procedures for Initiation of Downstream Product Monitoring

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before October 1, 2002.

ADDRESSES: Direct all written comments to Madeleine Clayton, Departmental Paperwork Clearance Officer, (202) 482-3129, Department of Commerce, Room 6608, 14th & Constitution Avenue, NW., Washington, DC 20230 or via the Internet at MClayton@doc.gov.

FOR FURTHER INFORMATION CONTACT: Request for additional information or copies of the information collection instrument and instructions should be directed to: Jeffrey May, Import Administration, Office of Policy, Room 3713, 14th & Constitution Avenue, NW., Washington, DC 20230; Phone number: (202) 482-3693, and fax number: (202) 482-4412.

SUPPLEMENTARY INFORMATION:

I. Abstract

The International Trade Administration's (ITA), Import Administration, AD/CVD Enforcement, implements the U.S. antidumping and countervailing duty law. Under section 1320 of the Omnibus Trade and Competitiveness Act of 1988, a domestic producer of an article that is like a component part of a downstream product may petition the Department of Commerce to designate the downstream product for monitoring. Section 1320, and the Department's rule 19 CFR 351.223, requires that the petition identify the downstream product to be monitored, the relevant component part, and the likely diversion of foreign exports of the component part into increased exports of the downstream product to the United States. ITA will evaluate the petition and will issue either an affirmative or negative “monitoring” determination.

II. Method of Collection

Form ITA-4119P is sent by request to potential U.S. petitioners.

III. Data

OMB Number: 0625-0200.

Form Number: ITA-4119P.

Type of Review: Regular Submission.

Affected Public: U.S. companies or industries that suspect the presence of unfair competition from foreign firms selling merchandise in the United States below fair value.

Estimated Number of Respondents: 1.

Estimated Time Per Response: 15 hours.

Estimated Total Annual Burden Hours: 15 hours.

Estimated Total Annual Costs: The estimated annual cost for this collection is $3,450 ($2,250 for respondents and $1,400 for federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: July 29, 2002.
Madeleine Clayton,
Departmental Paperwork Clearance Officer, Office of the Chief Information Officer.

[FR Doc. 02-19518 Filed 8-1-02; 8:45 am]

BILLING CODE 3510-DA-P